DEPARTMENT OF ENERGY

Federal Energy Regulatory Commission

[Docket No. RP05-691-000]

Mississippi River Transmission Corporation; Notice of Annual Fuel Adjustment

October 5, 2005.

Take notice that on September 30, 2005, CenterPoint Energy—Mississippi River Transmission Corporation (MRT) filed with the Commission its annual fuel adjustment filing pursuant to section 22 of the general terms and conditions of MRT's FERC Gas Tariff, Third Revised Volume No. 1, requesting an effective date of November 1, 2005, MRT filed the following sheets:

Fifty-Fourth Revised Sheet No. 5

Fifty-Fourth Revised Sheet No. 6

Fifty-First Revised Sheet No. 7

Twenty-Third Revised Sheet No. 8

MRT further states that a copy of this filing has been mailed to each of MRT's customers and to the state Commissions of Arkansas, Illinois, Louisiana, Missouri and Texas.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of § 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E5-5618 Filed 10-12-05; 8:45 am]

BILLING CODE 6717-01-P